ENVIRONMENTAL PROTECTION AGENCY

[Docket No. RCRA-2001-0032; FRL-7642-1]

Announcement of a Public Meeting on Development and Implementation of Electronic Manifests To Accompany Hazardous Waste Shipments

AGENCY: Environmental Protection Agency (EPA).

ACTION: Notice of public meeting.

SUMMARY: EPA's Office of Solid Waste is holding a two-day public meeting on May 19-20, 2004, to discuss and obtain public input on a national electronic manifest (“e-manifest”) system. Specifically, the purpose of this meeting is to present our rulemaking progress to date and to solicit input and preferences from stakeholders and other interested persons on the development and implementation of the e-manifest, as well as on alternative information technology (IT) systems. Interested parties are encouraged to attend the meeting and participate actively in these discussions. An agenda is provided in section III of this notice; this agenda may change as the Agency continues to identify topics that may be of interest. The meeting will consist of a plenary session supplemented by concurrent breakout sessions. The meeting structure will be governed by four main areas of e-manifest system development:

(1) Business processes and functionalities or “work flow;'

(2) Governance implications (management, maintenance);

(3) IT system architecture and implications; and,

(4) Funding sources and mechanisms for deploying such a system.

The Agency's primary objective is to collect creative feedback from stakeholders on the merits of different approaches to establishing an electronic manifest system capability. In order to meet the goals of the meeting, we encourage meeting participants from a variety of professional backgrounds to attend, such as IT vendors, state governmental and IT staff, and hazardous waste handlers (generators, transporters, waste management firms). Based on the input received at this meeting, from comments received, and from our own internal discussions, the Agency will decide whether to proceed with an e-manifest rule, and if so, how it should be designed and implemented. If the Agency decides to proceed with such a rule, the Agency will re-propose and solicit additional comments before any final decisions/rules are promulgated.

DATES: The stakeholder meeting is scheduled for May 19-20, 2004.

ADDRESSES: EPA will hold the meeting in Washington, DC, at our EPA East Public Hearing Room, with nearby meeting rooms also being used for the breakout sessions. The Public Hearing Room is located at Room 1153 EPA East, 1201 Pennsylvania Ave., NW., Washington, DC 20460.

FOR FURTHER INFORMATION CONTACT: Rachel White, Office of Solid Waste, telephone: (703) 306-0023; fax: (703) 308-0514; e-mail: white.rachel@epa.gov.

SUPPLEMENTARY INFORMATION:

I. General Information

A. Does This Meeting Apply to Me?

While the meeting is open to the public in general, the identified topics may be of particular interest to persons who use the RCRA Uniform Manifest, persons who are interested in developing IT solutions to implement an electronic manifest system, or persons who are concerned about the implementation of RCRA in these settings. Potentially interested parties may include but are not limited to: hazardous waste generators; hazardous waste treatment, storage and disposal facilities (TSDFs); hazardous waste transporters; Federal, State and local environmental and transportation regulators; enforcement personnel; IT vendors interested in hazardous waste applications and products; non-governmental organizations; and trade associations dealing with hazardous waste transportation issues. People with specific technical expertise, such as computer system specialists, information officers, IT managers and others are encouraged to attend. If you have any questions regarding the applicability of this meeting to a particular entity, organization or occupational discipline, consult the person listed under FOR FURTHER INFORMATION CONTACT.

B. How May I Participate in This Meeting?

For security purposes, all persons wishing to attend the meeting must register in advance no later than May 12, 2004 with the contact person listed above or online at: http://www.epa.gov/epaoswer/hazwaste/gener/manifest/e-man.htm. Access to the meeting for non-registered attendees may be denied by EPA building security or by limited seating capacity. When registering, please provide your name, affiliation, mailing address, telephone number, and e-mail address if you have one. A valid photo ID will be required to gain access to the EPA meeting rooms. Any person needing special accessibility accommodations at this meeting should inform the contact person above when registering.

C. May I Submit Comments on This Meeting?

We are not accepting comments prior to the stakeholder meeting, because we believe that participation in the meeting itself is critical to understanding the various approaches on which we are seeking feedback. However, if you wish to bring materials to the meeting for submission to the public record, we will include them in the official meeting proceedings package, which will be submitted to the docket following the meeting. In addition, meeting participants may also submit their written comments to the docket following the stakeholder meeting; participants will have 30 days after the meeting to submit their comments to the EPA Docket (Docket ID No. RCRA 2001-0032) that we created for the May 2001 Notice of Proposed Rulemaking (NPRM), which can be found at http:/www.epa.gov/edocket. Documents in the official public docket are listed in the index list in EPA's electronic public docket and comment system, EDOCKET. Documents may be available either electronically or in hard copy. Electronic documents may be viewed through EDOCKET. Hard copy documents may be viewed at the EPA Docket Center (EPA/DC), EPA West, Room B102, 1301 Constitution Ave., NW., Washington, DC. The EPA Docket Center Public Reading Room is open from 8:30 a.m. to 4:30 p.m., Monday through Friday, excluding legal holidays. The telephone number for the Reading Room is (202) 566-1742, and the telephone number for the EPA Docket Center is (202) 566-0270. In addition to providing a written summary of the meeting, we will submit contributed discussion materials to EDOCKET a few weeks after the meeting. We also will enter the proceedings from this meeting into EDOCKET (Docket ID No. RCRA 2001-0032).

An electronic version of the public docket is available through EDOCKET. You may use EDOCKET at http://www.epa.gov/edocket/ to submit or view public comments, access the index listing of the contents of the official public docket, and to access those documents in the public docket that are available electronically. Once in the system, select “search,” then key in the appropriate docket identification number.

Certain types of information will not be placed in EDOCKET. Information claimed as CBI and other information whose disclosure is restricted by statute, which is not included in the official public docket, will not be available for public viewing in EPA's electronic public docket. EPA's policy is that copyrighted material will not be placed in EPA's electronic public docket but will be available only in printed, paper form in the official public docket. Publicly available docket materials that are not available electronically may be viewed at the docket facility identified in Unit I.C.

For public commenters, it is important to note that EPA's policy is that public comments, whether submitted electronically or in paper, will be made available for public viewing in EPA's electronic public docket as EPA receives them and without change, unless the comment contains copyrighted material, CBI, or other information whose disclosure is restricted by statute. When EPA identifies a comment containing copyrighted material, EPA will provide a reference to that material in the version of the comment that is placed in EPA's electronic public docket. The entire printed comment, including the copyrighted material, will be available in the public docket.

Public comments submitted on computer disks that are mailed or delivered to the docket will be transferred to EPA's electronic public docket. Public comments that are mailed or delivered to the Docket will be scanned and placed in EPA's electronic public docket. Where practical, physical objects will be photographed, and the photograph will be placed in EPA's electronic public docket along with a brief description written by the docket staff.

D. How and To Whom Do I Submit Comments After the Meeting?

You may submit comments electronically, by mail, or through hand delivery/courier. To ensure proper receipt by EPA, identify the appropriate docket identification number in the subject line on the first page of your comment. Please ensure that your comments are submitted within the specified comment period.

1. Electronically. If you submit an electronic comment as prescribed below, EPA recommends that you include your name, mailing address, and an e-mail address or other contact information in the body of your comment. Also include this contact information on the outside of any disk or CD-ROM you submit, and in any cover letter accompanying the disk or CD-ROM. This ensures that you can be identified as the submitter of the comment and allows EPA to contact you in case EPA cannot read your comment due to technical difficulties or needs further information on the substance of your comment. EPA's policy is that EPA will not edit your comment, and any identifying or contact information provided in the body of a comment will be included as part of the comment that is placed in the official public docket, and made available in EPA's electronic public docket. If EPA cannot read your comment due to technical difficulties and cannot contact you for clarification, EPA may not be able to consider your comment.

Your use of EPA's electronic public docket to submit comments to EPA electronically is EPA's preferred method for receiving comments. Go directly to EDOCKET at http://www.epa.gov/edocket, and follow the online instructions for submitting comments. To access EPA's electronic public docket from the EPA Internet Home Page, select “Information Sources,” “Dockets,” and “EDOCKET.” Once in the system, select “search,” and then key in Docket ID No. RCRA-2001-0032. The system is an “anonymous access” system, which means EPA will not know your identity, e-mail address, or other contact information unless you provide it in the body of your comment. Electronic comments may also be sent through the Federal wide eRulemaking Web site at www.regulations.gov.

Comments may be sent by electronic mail (e-mail) to rcra-docket@epa.gov, Attention Docket ID No. RCRA-2001-0032. In contrast to EPA's electronic public docket, EPA's e-mail system is not an “anonymous access” system. If you send an e-mail comment directly to the Docket without going through EPA's electronic public docket, EPA's e-mail system automatically captures your e-mail address. E-mail addresses that are automatically captured by EPA's e-mail system are included as part of the comment that is placed in the official public docket, and made available in EPA's electronic public docket.

2. By Mail. You may submit comments on a disk or CD-ROM that you mail to the mailing address identified below. These electronic submissions will be accepted in WordPerfect or ASCII file format. Avoid the use of special characters and any form of encryption. Send your comments to: EPA Docket Center, Environmental Protection Agency, Mailcode: 5305T, 1200 Pennsylvania Ave., NW., Washington, DC 20460, Attention Docket ID No. RCRA-2001-0032.

3. By Hand Delivery or Courier. Deliver your comments to: OSWER Docket, Environmental Protection Agency, EPA West, 1301 Constitution Ave, NW., Room B102, Washington, DC, Attention Docket ID No. RCRA-2001-0032. Such deliveries are only accepted during the Docket's normal hours of operation as identified in Unit 1.C.

II. Background

For more than 20 years, the hazardous waste manifest system has provided a paper trail to track hazardous waste shipments from “cradle to grave.” Waste generators, transporters, and treatment, storage and disposal facilities (TSDFs) each participate in documenting the movement of waste shipments through the use of the current paper manifest system. About 28 states currently collect completed manifest copies from hazardous waste generators and TSDFs, manually keying or scanning the data into state tracking databases. These states utilize manifest data for program management, for identifying trends in waste management, for enforcement and for assessing waste management fees.

Because of the volume of manifests circulated each year (our 2002 estimates range between 2.5 million and 5 million), and the number of copies that must be signed sequentially and retained in files for inspection, the paperwork burden attributed to the manifest system is among the largest that results from current EPA-required data collections. We estimate that the current paper-based system results in annual costs to waste handlers and states of between $193 million and $404 million. Thus, for several years, EPA has sought to transform the manifest system from its current paper-based approach to one that takes greater advantage of electronic information technologies. We believe that successful implementation of an e-manifest system could substantially reduce the costs and paperwork burden associated with the current manifest system, while improving the ability to track waste shipments and improving the quality and timeliness of manifest data.

In May 2001, EPA published an NPRM which included proposed changes that would standardize the manifest form, and which proposed standards that would enable manifests to be completed, signed and transmitted electronically (See 66 FR 28240, http://www.epa.gov/fedrgstr/EPA-WASTE/2001/May/Day-22/f11909.htm). Specific to the e-manifest, we proposed alternative IT approaches involving: (1) Standardized data exchange format using XML schema and style sheet and Electronic Data Interchange (EDI) formats; (2) digital and digitized electronic signatures; and, (3) computer security requirements aimed at ensuring data integrity, authentication and non-repudiation. The proposed approach assumed that EPA's role would be limited to setting the e-manifest system standards, while actual e-manifest systems would be deployed by private parties, including waste firms and IT vendors wishing to establish and market this type of product or service. This assumption was based on EPA's desire to maintain its current policy role vis a vis the manifest.

However, public comments on the proposed rule indicated diverse and substantial levels of support for an e-manifest system, but cast doubt on the viability of EPA's assumption that waste handlers or others would develop and broadly deploy low-cost, interoperable systems. Commenters from the waste management sector indicated that these private systems could be costly, duplicative and possibly inconsistent with one another. Additionally, the rigor and prescriptiveness of the technical and security standards we proposed as necessary to support a decentralized or distributed e-manifest approach raised questions for commenters about the feasibility of going forward with this approach. As a result, EPA decided to defer final action on the e-manifest portion of the May 2001 proposed rule. Instead, we conducted additional analyses related to the e-manifest and decided to look more closely at alternatives to our proposed approach. Several commenters, for example, expressed the view that a national, web-based system hosted by EPA would be a much more practical and workable solution to the e-manifest work flow. However, this would require EPA to assume a more centralized manifest collection role that it does not now play with respect to the paper manifest, and it would involve substantial start-up and maintenance costs for which EPA would need to identify stable sources of funding. This alternative approach also raises the question whether EPA is the party best suited to develop a consistent, national solution or whether other parties might more appropriately develop and host such a system.

Given this background, the purpose of this meeting is to engage interested stakeholders in a two-day public idea exchange aimed at helping us identify how best to proceed with selecting and implementing the future direction of the e-manifest, if the Agency decides to proceed with such a rulemaking. We plan to structure and conduct the meeting to reach our objectives of receiving broad, rigorous input and assessment of alternative design and implementation approaches to a national e-manifest system and, where possible, identify if there is public support for the key components of such a system. Additional background information about the May 2001 proposed rule, including the proposed electronic manifest approach, is available at: http://www.epa.gov/epaoswer/hazwaste/gener/manifest/mods.htm. General background information about the hazardous waste manifest system is available at: http://www.epa.gov/epaoswer/hazwaste/gener/manifest/index.htm.

III. Agenda

The two-day stakeholder meeting will consist of a plenary session supplemented by concurrent breakout sessions. As the meeting date approaches, we will post more detailed information on the meeting agenda and discussion materials on EPA's Web site at http://www.epa.gov/epaoswer/hazwaste/gener/manifest/e-man.htm. Generally, the agenda will focus discussion in four key areas:

1. E-Manifest Business Process: This discussion will focus on the e-manifest business process flow, addressing existing requirements and new opportunities (potential roles and functions) of the various types, locations and sizes of stakeholders involved in each step of the RCRA manifest process and their geographic or other dependencies. The e-manifest could serve as a mechanism for consolidating a number of functions currently performed by hazardous waste generators, transporters, TSDFs, State regulators, enforcement personnel and Federal regulators. For example, reporting requirements for the RCRA Biennial Report and other data collection programs could be incorporated into one function through the e-manifest which, if implemented under a “shared IT services” approach, would allow for integrated reporting and faster data collection and analysis. Stakeholders include, but are not limited to, hazardous waste generators, transporters and TSDFs, as well as State government environmental agencies, international organizations, IT vendors, hazardous waste brokers, and various Federal agencies such as U.S. Customs and the Department of Justice.

2. E-Manifest Information Technology Architecture: This discussion will focus on the information technology (IT) and other technical aspects of different e-manifest system approaches (i.e., software and hardware architectures). Within this area, four main IT subsystems will be explored:

• E-manifest data subsystem: key assumptions, questions and issues to be resolved related to manifest data (e.g., input, transfer, output, storage, archive).

• E-manifest system services subsystem: key components of the IT application architecture and how they interrelate (i.e., interoperability), as well as defining discrete transactions that comprise the entire process.

• E-manifest data security subsystem: how manifest data and IT applications will be kept secure.

• E-manifest infrastructure subsystem: how data and IT applications will be managed (maintained, updated).

3. E-Manifest Governance: This discussion area supplements the business process discussion, addressing the major issues associated with who will design, implement, manage, maintain, certify and approve e-manifest system IT software, hardware, guidance, administrative processes, modifications, upgrades, interfaces and technical formats. We are interested in assessing institutional arrangements for governance of the e-manifest system, paying attention to their benefits and costs (trade-offs). For purpose of this meeting discussion, we have identified two fundamentally different approaches, which we refer to as “shared services” and “distributed services.” The “distributed services” approach, under which private firms develop e-manifest systems that adhere to a set of promulgated standards, was proposed in the May 2001 proposed rule.

Another approach we have identified calls for a “shared services” system in which EPA or some other entity establishes an e-manifest system that is accessed through a shared central portal. This would mean that the entire manifest work flow would be hosted by EPA or another entity on a Web-based system.

4. E-Manifest Funding Approaches: This discussion will identify alternative funding approaches for both system start-up and annual life-cycle maintenance costs that may be needed to implement any “shared services” type of system. Clearly, EPA will not be able to move forward with any “shared services” approach involving our developing and hosting new applications or systems unless we are able to identify a stable source of funding for the entire life cycle of such a system. During this discussion, the Agency will present materials describing a variety of possible funding mechanisms (e.g., user fees, share-in-savings and other cost-recovery contracts, new Federal appropriations earmarked for system development, and reallocation/earmarking of EPA State grants), and discuss how such funding mechanisms might be suited for system development or for operating and maintenance costs. We will seek from our stakeholders their creative ideas, suggestions, and feedback on these funding mechanisms, as well as any additional mechanisms suggested by stakeholders during the meeting.

Based on the information received at this meeting, from public comments, and our own internal discussions, the Agency will decide whether to proceed with an e-manifest rule, and if so, how it should be designed and implemented. Again, if the Agency decides to proceed with such a rule, the Agency will re-propose and solicit additional comment before we proceed with any final decisions.

Dated: March 12, 2004.
Matt Hale,
Acting Director, Office of Solid Waste.

[FR Doc. 04-7329 Filed 3-31-04; 8:45 am]

BILLING CODE 6560-50-P